DEPARTMENT OF COMMERCE

International Trade Administration

[A-588-835]

Oil Country Tubular Goods From Japan; Amended Final Results of Antidumping Duty Administrative Review

AGENCY: Import Administration, International Trade Administration, Department of Commerce.

ACTION: Notice of Amended Final Results of Antidumping Duty Administrative Review.

SUMMARY: We are amending our final results of the 1997-98 administrative review of the antidumping duty order on oil country tubular goods (OCTG) from Japan, published on March 22, 2000 (65 FR 15305), to reflect the correction of ministerial errors made in the calculations of our final results. We are publishing this amendment to the final results in accordance with 19 CFR 351.224(e). The final weighted-average dumping margin for the reviewed firm is listed below in the section entitled “Amended Final Results of Review.” The period of review is August 1, 1997 through July 31, 1998.

EFFECTIVE DATE: April 28, 2000.

FOR FURTHER INFORMATION CONTACT: Thomas Gilgunn or Mark Hoadley, Import Administration, International Trade Administration, U.S. Department of Commerce, Washington, D.C. 20230; telephone: (202) 482-0648 and (202) 482-0666, respectively.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department's regulations are to 19 CFR Part 351 (1999).

Background

On September 7, 1999, the Department published the preliminary results of the administrative review of the antidumping duty order on OCTGs from Japan (64 FR 48589). We published the final results of review on March 22, 2000 (65 FR 15305).

On March 14, 2000, we received allegations from respondent, Sumitomo Metal Industries (SMI), that we had made ministerial errors in our calculations of the final results of review.

Scope of Review

The merchandise covered by this order consists of OCTGs, hollow steel products of circular cross-section, including oil well casing, tubing, and drill pipe, of iron (other than cast iron) or steel (both carbon and alloy), whether seamless or welded, whether or not conforming to American Petroleum Institute (API) or non-API specifications, whether finished or unfinished (including green tubes and limited service OCTG products). This scope does not cover casing, tubing, or drill pipe containing 10.5 percent or more of chromium. The products subject to this order are currently classified in the Harmonized Tariff Schedule of the United States (HTSUS) under item numbers: 7304.21.30.00, 7304.21.60.30, 7304.21.60.45, 7304.21.60.60, 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. Although the HTSUS subheadings are provided for convenience and customs purposes, our written description of the scope of this review is dispositive.

Comments

1. Conversion of Data

SMI alleges that the Department committed a ministerial error by calculating its margin on a per meter basis, as opposed to a per metric ton basis. SMI argues that calculations pertaining to OCTGs should be made on a per metric ton basis because (1) this has been the Department's policy in the past, (2) as a result of varying wall thickness, one meter of two different products will not weigh the same and will have different costs, values, and prices, (3) transactions in OCTGs are commonly conducted on a per metric ton basis, (4) the steel industry tracks OCTG costs, values, and prices on a per-weight basis, and (5) SMI's cost accounting system is based on weight.

Department's Position: We agree with SMI. SMI reported data on a per foot, per meter, per kilogram, per metric ton, and per piece basis. For our preliminary results, we attempted to convert all data into per metric ton values. For our final results, we reconverted SMI's data as a result of a conversion error discovered in our preliminary calculations. In reconverting the data, however, we converted to per meter values, instead of per metric ton values.

Calculating the margin on a per metric ton basis will be consistent with previous reviews and the investigation, with SMI's cost accounting system, and with the way in which the merchandise is sold. Therefore, we have recalculated SMI's margin on a per metric ton basis for these amended final results.

2. Conversion of Variable Cost of Manufacturing Data

SMI alleges that we used an incorrect conversion rate when we converted the variable cost of manufacturing of its U.S. product from a per metric ton amount to a per meter amount.

Department's Position: Because we agree that SMI's reported values should not have been converted to per meter values, this allegation is moot.

Amended Final Results of Review

Upon review of the submitted allegations, we determine that the following percentage weighted-average margin exists for the period August 1, 1997 through July 31, 1998:

Manufacturer/exporter | Margin (percent)
Sumitomo Metal Industries | 0.00

Cash Deposit Requirements

The following deposit requirements will be effective upon publication of this notice of final results of administrative review for all shipments of oil country tubular goods from Japan entered, or withdrawn from warehouse, for consumption on or after the date of publication, as provided by section 751(a)(1) of the Act: (1) The cash deposit rate for the reviewed company will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 44.2 percent. This rate is the “All Others” rate from the LTFV investigation.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(1) and 777(i) of the Act.

Dated: April 18, 2000.
Troy H. Cribb,
Acting Assistant Secretary for Import Administration.

[FR Doc. 00-10529 Filed 4-27-00; 8:45 am]

BILLING CODE 3510-DS-P